DEPARTMENT OF ENERGY

Energy Information Administration

Agency Information Collection Activities: Submission for OMB Review; Comment Request

AGENCY: U. S. Energy Information Administration (EIA), Department of Energy (DOE).

ACTION: Agency Information Collection Activities: Submission for OMB Review; Comment Request.

SUMMARY: The EIA has submitted the U.S. Energy Information Administration's Monthly Biodiesel Production Survey to the Office of Management and Budget (OMB) for revision and a three-year extension under section 3507(h)(1) of the Paperwork Reduction Act of 1995 (Pub. L. 104-13) (44 U.S.C. 3501 et seq).

DATES: Comments must be filed by December 12, 2011. If you anticipate that you will be submitting comments but find it difficult to do so within that period, you should contact the OMB Desk Officer for DOE listed below as soon as possible.

ADDRESSES: Send comments to OMB Desk Officer for DOE, Office of Information and Regulatory Affairs, Office of Management and Budget. To ensure receipt of the comments by the due date, submission by Fax at (202) 395-7285 or email to Chad_S_Whiteman@omb.eop.gov is recommended. The mailing address is 725 17th Street NW., Washington, DC 20503. The OMB DOE Desk Officer may be telephoned at (202) 395-4718. (A copy of your comments should also be provided to EIA's Office of Survey Development and Statistical Integration at the address below.)

FOR FURTHER INFORMATION CONTACT: Requests for additional information should be directed to Jason Worrall. To ensure receipt of the comments by the due date, submission by email (Jason.worrall@eia.gov) is also recommended. The mailing address is Office of Survey Development and Statistical Integration (EI-21), Forrestal Building, U.S. Department of Energy, 1000 Independence Ave. SW., Washington, DC 20585-0670. Mr. Worrall may be contacted by telephone at (202) 586-6075.

SUPPLEMENTARY INFORMATION: This section contains the following information about the energy information collections submitted to OMB for review: (1) The collection numbers and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; (8) estimated number of respondents annually; (9) an estimate of the total annual reporting burden in hours (i.e., the estimated number of likely respondents times the proposed frequency of response per year times the average hours per response); and (10) an estimate of the total annual reporting and recordkeeping cost burden (in thousands of dollars).

1. EIA-22M, “Monthly Biodiesel Production Survey.”

2. U.S. Energy Information Administration.

3. OMB Number 1905-0207.

4. Three-year extension.

5. Mandatory.

6. The purpose of the survey is to collect information from biodiesel producers regarding the following: Plant location, capacity, and operating status; Biodiesel and co-product production; Inputs to production; Sales for end-use and resale; Sales revenue; and Biodiesel stocks.

7. Business or other for-profit.

8. 150 Respondents

9. Annual total of 5400, hours, collected 12 times per year, three hours per response.

10. Annual total of $0.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: Section 13(b) of the Federal Energy Administration Act of 1974, P.L. 93-275, codified at 15 U.S.C. 772(b).

Issued in Washington, DC, on November 2, 2011.
Stephanie Brown,
Director, Office of Survey Development and Statistical Integration, U.S. Energy Information Administration.

[FR Doc. 2011-29147 Filed 11-9-11; 8:45 am]

BILLING CODE 6450-01-P